NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by September 18, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant

[Permit Application No. 2004-011]

William Gilmore, Environmental Manager, Raytheon Polar Services Company, 7400 South Tucson, MS29, Centennial, CO 80112-3938.

Activity for Which Permit is Requested

Enter Antarctic Specially Protected Area. The applicant proposes to enter the Cape Crozier Antarctic Specially Protected Area (ASPA #124) to remove debris collected from the old campsite last season. In addition, the application plans annual visits to the campsite at Cape Crozier to conduct an Environmental Field Camp audit and document the camp's environmental footprint, as well as compliance with applicable waste and environmental, health and safety protocols. Each season audits are conducted to ensure that research activities comply with environmental impact assessment requirements.

Location

ASPA #124—Cape Crozier, Ross Island.

Dates

October 1, 2003 to February 28, 2007.

2. Applicant

[Permit Application No. 2004-012]

David Caron, 3616 Trousdale Parkway, AHF 301, Los Angeles, CA 90089-0371.

Activity for Which Permit is Requested

Introduction of a non-indigenous plant and importation into the U.S. The applicant proposes to introduce cultures of marine phytoplankton to Antarctica for use in various shipboard experiments to study the feeding rates of Antarctic protistan grazers. There will be no live release of any cultures into Antarctic waters or onto the continent. In addition, the applicant proposes to collect water samples containing marine phytoplankton and microscopic zooplankton for use in experiments, for preservation for future examination, and for developing new cultures. These samples will be transported back to the United States for further study.

Location

At sea in Antarctic waters.

Dates

October 20, 2003 to December 20, 2003.

Nadene G. Kennedy,
Permit Officer, Office of Polar Programs.

[FR Doc. 03-21128 Filed 8-18-03; 8:45 am]

BILLING CODE 7555-01-M